DEPARTMENT OF HEALTH AND HUMAN SERVICES

Administration for Children and Families

[OMB No. 0970-0497]

Proposed Information Collection Activity; Personal Responsibility Education Program (PREP)—Extension

AGENCY: Office of Planning, Research, and Evaluation (OPRE), Administration for Children and Families (ACF), U.S. Department of Health and Human Services (HHS).

ACTION: Request for public comments.

SUMMARY: OPRE and the Family and Youth Services Bureau (FYSB) in ACF request an extension to a currently approved information collection of performance measures data for the PREP Program (OMB No. 0970-0497; expiration date: 06/30/2023). The purpose of the request is to (1) continue the ongoing data collection and submission of the performance measures by PREP grantees and (2) eliminate the requirement for grantees to aggregate participant survey data to the program level for submission.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: This notice is specific to a request for an extension of data collection activities for the PREP Performance Measures Study component, which includes collection and analysis of performance measure data from State PREP (SPREP), Tribal PREP (TPREP), Competitive PREP (CPREP), and Personal Responsibility Education Innovative Strategies (PREIS) grantees. PREP grants support evidence-based programs to reduce teen pregnancy and sexually transmitted infections. The programs are required to provide education on both abstinence and contraceptive use and to offer information on adulthood preparation subjects. Data will be used to determine if the PREP grantees are meeting their programs' mission and priorities. This request includes revisions to the program-level data collection forms (Instruments 3 and 4) to no longer require grantees to aggregate participant survey data to the program level for submission.

Respondents: SPREP, TPREP, CPREP, and PREIS grantees; their subrecipients; and program participants.

Annual Burden Estimates
Instrument | Number of respondents (total over request period) | Number of responses per respondent (total over request period) | Average burden per response (in hours) | Total burden (in hours) | Annual burden (in hours)
Instrument 1
Participant entry survey | 351,001 | 1 | 0.13333 | 46,799 | 15,600
Instrument 2
Participant exit survey | 320,203 | 1 | 0.11667 | 37,358 | 12,453
Instrument 3: Performance Reporting System Data Entry Form
SPREP grantees | 51 | 6 | 18 | 5,508 | 1,836
TPREP grantees | 8 | 6 | 18 | 864 | 288
CPREP grantees | 27 | 6 | 14 | 2,268 | 756
PREIS grantees | 12 | 6 | 14 | 1,008 | 336
Instrument 4: Subrecipient Data Collection and Reporting Form
SPREP subrecipients | 259 | 6 | 14 | 21,756 | 7,252
TPREP subrecipients | 27 | 6 | 14 | 2,268 | 756
CPREP subrecipients | 54 | 6 | 12 | 3,888 | 1,296
PREIS subrecipients | 20 | 6 | 12 | 1,440 | 480

Estimated Total Annual Burden Hours: 41,052.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 50503, Pub. L. 115-123.

John M. Sweet, Jr.,
ACF/OPRE Certifying Officer.

[FR Doc. 2023-05992 Filed 3-22-23; 8:45 am]

BILLING CODE 4184-37-P